FEDERAL MARITIME COMMISSION

Ocean Transportation Intermediary License Revocation

The Federal Maritime Commission hereby gives notice that the following Ocean Transportation Intermediary licenses have been revoked pursuant to section 19 of the Shipping Act of 1984 (46 U.S.C. Chapter 409) and the regulations of the Commission pertaining to the licensing of Ocean Transportation Intermediaries, 46 CFR Part 515, effective on the corresponding date shown below:

License Number: 1198F.

Name: World Freight Forwarders, Inc.

Address: 1430 Morton Drive, Maysville, KY 41056.

Date Revoked: April 12, 2010.

Reason: Surrendered license voluntarily.

License Number: 13787N.

Name: Trans Caribe Express Shippers, Inc.

Address: 163 Tremont Avenue, East Orange, NJ 07018.

Date Revoked: April 29, 2010.

Reason: Failed to maintain a valid bond.

License Number: 015941N.

Name: Cargo Plus, Inc.

Address: 8333 Wessex Drive, Pennsauken, NJ 08109.

Date Revoked: April 25, 2010.

Reason: Failed to maintain a valid bond.

License Number: 017207F.

Name: Legend Express Co.

Address: 1506 S. Paloma Street, Los Angeles, CA 90021.

Date Revoked: May 5, 2010.

Reason: Surrendered license voluntarily.

License Number: 17493N.

Name: Bayanihan Cargo International Inc.

Address: 925 Linden Avenue, #D, South San Francisco, CA 94080.

Date Revoked: April 30, 2010.

Reason: Failed to maintain a valid bond.

License Number: 019651F.

Name: Acorn International Forwarding Co.

Address: 2200 Pacific Coast Highway, Suite 219, Hermosa Beach, CA 90254.

Date Revoked: April 30, 2010.

Reason: Failed to maintain a valid bond.

License Number: 021725N.

Name: World Wide Cargo Partners, LLC.

Address: 7900 Stoneridge Drive, Suite #117, Pleasanton, CA 94588.

Date Revoked: April 20, 2010.

Reason: Surrendered license voluntarily.

License Number: 021121F.

Name: Worldwide Logistics of Columbus LLC.

Address: 6663 Huntley Road, Suite N, Columbus, OH 43229.

Date Revoked: April 30, 2010.

Reason: Failed to maintain a valid bond.

Sandra L. Kusumoto,
Director, Bureau of Certification and Licensing.

[FR Doc. 2010-12055 Filed 5-19-10; 8:45 am]

BILLING CODE 6730-01-P